DEPARTMENT OF TRANSPORTATION

Federal Aviation Administration

14 CFR Part 39

[Docket No. FAA-2009-0113; Directorate Identifier 2008-NE-25-AD; Amendment 39-16602; AD 2011-04-02]

RIN 2120-AA64

Airworthiness Directives; Hamilton Sundstrand Propellers Model 247F Propellers

AGENCY: Federal Aviation Administration (FAA), DOT.

ACTION: Final rule; correction.

SUMMARY: The FAA is correcting an airworthiness directive (AD) that published in the Federal Register. That AD applies to the products listed above. The blade part number (P/N) 817370-1 in the SUPPLEMENTARY INFORMATION, the Applicability, and the Compliance sections is incorrect. We are also adding a statement to the Compliance section to clarify the applicability. This document corrects those errors. In all other respects, the original document remains the same.

DATES: This final rule is effective May 5, 2011.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Michael Schwetz, Aerospace Engineer, Boston Aircraft Certification Office, FAA, Engine and Propeller Directorate, 12 New England Executive Park, Burlington, MA 01803; telephone (781) 238-7761; fax (781) 238-7170; e-mail: michael.schwetz@faa.gov.

SUPPLEMENTARY INFORMATION: Airworthiness Directive 2011-04-02, amendment 39-16602 (76 FR 7101, February 9, 2011), currently requires removing from service, certain part number and serial number propeller blades for Hamilton Sundstrand Propellers Model 247F Propellers.

As published, the propeller blade part number 817370-1 and ATR72-210 and ATR722-210E airplanes in the SUPPLEMENTARY INFORMATION, the Applicability, and the Compliance sections are incorrect.

No other part of the preamble or regulatory information has been changed; therefore, only the changed portion of the final rule is being published in the Federal Register.

The effective date of this AD remains March 16, 2011.

Correction of Non-Regulatory Text

In the Federal Register of February 9, 2011, AD 2011-04-02; Amendment 39-16602 is corrected as follows:

On page 7101 in the third column, on line 26, SUPPLEMENTARY INFORMATION, change “817370-1” to “R817370-1”.

On page 7101 in the third column, on line 33, SUPPLEMENTARY INFORMATION, change “817370-1” to “R817370-1”.

Correction of Regulatory Text

§ 39.13 [Corrected]

In the Federal Register of February 9, 2011, on page 7102, in the second column, paragraph (c) of AD 2011-04-02 is corrected to read as follows:

* * * * *

(c) This AD applies to Hamilton Sundstrand model 247F series propellers with blades part number (P/N) R817370-1, serial numbers (S/Ns) FR2018, FR2103, FR2108, FR2109, FR2111, FR2123, FR2183, FR2187, FR2262, FR2276 through FR2279 inclusive, FR 2398, FR2449 to FR2958 inclusive, FR20010710 to FR20010722 inclusive, and FR20010723RT to FR20020127RT inclusive, installed. Propeller blades reworked to Hamilton Sundstrand Service Bulletin 247F-61-54 with the part number re-marked as R817370R1 are in compliance with this AD.

* * * * *

In the Federal Register of February 9, 2011, on page 7102, in the second column, paragraph (f) of AD 2011-04-02 is corrected to read as follows:

* * * * *

Removing Blades P/N R817370-1

(f) Remove from service, blades P/N R817370-1, S/Ns FR2018, FR2103, FR2108, FR2109, FR2111, FR2123, FR2183, FR2187, FR2262, FR2276 through FR2279, FR2398, FR2449 to FR2958 inclusive, FR20010710 to FR20010722 inclusive, and FR20010723RT to FR20020127RT inclusive, within 30 days after the effective date of this AD.

* * * * *

Issued in Burlington, Massachusetts, on April 29, 2011.
Peter A. White,
Acting Manager, Engine & Propeller Directorate, Aircraft Certification Service.

[FR Doc. 2011-10898 Filed 5-4-11; 8:45 am]

BILLING CODE 4910-13-P